FEDERAL HOUSING FINANCE BOARD

Sunshine Act Meeting Notice; Announcing a Partially Open Meeting of the Board of Directors

Time and Date: The open portion of the meeting of the Board of Directors is scheduled to begin at 10 a.m. on Wednesday, October 8, 2003. The closed portion of the meeting will follow immediately the open portion of the meeting.

Place: Board Room, Second Floor, Federal Housing Finance Board, 1777 F Street, NW, Washington, DC 20006.

Status: The first portion of the meeting will be open to the public. The final portion of the meeting will be closed to the public.

Matters to be Considered at the Open Portion of Meeting: Appointment of Two Members of the Financing Corporation Directorate. Section 21(b) of the Federal Home Loan Bank Act (12 U.S.C. 1441(b)) requires the agency to select two Federal Home Loan Bank presidents to serve as members of the Financing Corporation (FICO) Directorate.

Appointment of Director—Federal Home Loan Bank of Indianapolis. Section 7 of the Federal Home Loan Bank Act (12 U.S.C. 1427) requires the agency to appoint public interest directors to the boards of directors of the Federal Home Loan Banks.

Final Rule Regarding the Privacy and Freedom of Information Acts. Consideration of a final rule adopting the interim final rule approved in June 2003 without substantive change. See 68 FR 39810 (July 3, 2003). The revised Privacy Act regulation is written in a “user-friendly” format, reflects a reassignment of responsibility and authority for running the agency's Privacy Act program to the Office of General Counsel, and amends the Freedom of Information Act fee schedule to take into account increased salary and operational costs.

Matters to be Considered at the Closed Portion of Meeting: Periodic Update of Examination Program Development and Supervisory Findings.

FOR FURTHER INFORMATION CONTACT: Mary Gottlieb, Paralegal Specialist, Office of General Counsel, by telephone at 202/408-2826 or by electronic mail at gottliebm@fhfb.gov.

Dated: September 30, 2003.
By the Federal Housing Finance Board.
Arnold Intrater,
General Counsel.

[FR Doc. 03-25218 Filed 10-1-03; 9:24 am]

BILLING CODE 6725-01-P